INTERNATIONAL TRADE COMMISSION

[Investigation No. 337-TA-1406]

Certain Memory Devices and Electronic Devices Containing the Same; Notice of a Commission Determination Not To Review an Initial Determination Granting a Joint Motion To Terminate the Investigation as to One Respondent and To Amend the Complaint and Notice of Investigation

AGENCY: International Trade Commission.

ACTION: Notice.

SUMMARY: Notice is hereby given that the U.S. International Trade Commission (“Commission”) has determined not to review an initial determination (“ID”) (Order No. 8) of the presiding administrative law judge (“ALJ”) granting a joint motion to: (1) terminate the investigation as to respondent Lenovo Group Limited of Hong Kong based on partial withdrawal of the complaint, and (2) amend the complaint and notice of investigation to add Lenovo PC HK Limited of Hong Kong and Lenovo Global Technology (United States) Inc. of Morrisville, North Carolina as additional respondents.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on July 9, 2024, based on a complaint filed by MimirIP LLC of Dallas, Texas (“Complainant”). See 89 FR 56406-407 (July 9, 2024). The complaint, as supplemented, alleges violations of section 337 of the Tariff Act of 1930, as amended, 19 U.S.C. 1337, in the importation into the United States, the sale for importation, or the sale within the United States after importation of certain memory devices and electronic devices containing the same by reason of the infringement of certain claims of U.S. Patent Nos. 7,468,928; 7,579,846; and 8,036,053. Id. The complaint further alleges that a domestic industry exists. Id. The Commission's notice of investigation named as respondents Micron Technology Inc. of Boise, Idaho; Hewlett Packard Enterprise Co. of Spring, Texas; HP, Inc. of Palo Alto, California; Kingston Technology Company, Inc. of Fountain Valley, California; Lenovo Group Limited of Hong Kong; Lenovo (United States) Inc. of Morrisville, North Carolina; and Tesla Inc. of Austin, Texas. Id. The Office of Unfair Import Investigations (“Staff”) is participating in the investigation for issues relating to the economic prong of the domestic industry requirement, remedy, and public interest only. EDIS Doc. ID 826262 (July 17, 2024).

On August 7, 2024, Complainants and respondents Lenovo Group Limited and Lenovo (United States) Inc. filed a joint motion to: (1) terminate respondent Lenovo Group Limited from this investigation pursuant to Commission Rule 210.21 (19 CFR 210.21), and (2) amend the complaint and the notice of investigation to add Lenovo PC HK Limited and Lenovo Global Technology (United States) Inc. as respondents pursuant to Commission Rule 210.14 (19 CFR 210.14). The joint motion states that the other named respondents and Staff did not oppose the joint motion. No response to the joint motion was filed.

On August 8, 2024, the ALJ issued the subject ID (Order No. 8) granting the joint motion. Order No. 8 (August 8, 2024). The subject ID finds that the joint motion is supported by good cause pursuant to Commission Rule 210.14(b) (19 CFR 210.14(b)) and that there is no prejudice to any party if the motion is granted. The Commission notes that the motion also states, pursuant to Commission Rule 210.21(a) (19 CFR 210.21(a)), that there are no other agreements, written or oral, express or implied between the parties concerning the subject matter of this Investigation.

No petitions for review of the ID were filed.

The Commission has determined not to review the subject ID (Order No. 8). Lenovo Group Limited is terminated from the investigation. Lenovo PC HK Limited and Lenovo Global Technology (United States) Inc. are added as respondents to the investigation.

The Commission vote for this determination took place on August 22, 2024.

The authority for the Commission's determination is contained in section 337 of the Tariff Act of 1930, as amended (19 U.S.C. 1337), and in part 210 of the Commission's Rules of Practice and Procedure (19 CFR part 210).

By order of the Commission.
Issued: August 22, 2024.
Lisa Barton,
Secretary to the Commission.

[FR Doc. 2024-19237 Filed 8-26-24; 8:45 am]

BILLING CODE 7020-02-P